DEPARTMENT OF THE INTERIOR

Bureau of Land Management

[MT-926-02-1420-BJ]

Survey Plat Filings

AGENCY: Bureau of Land Management, Montana State Office, Interior.

ACTION: Notice of Intent for Filing of Plat of Survey.

SUMMARY: The plat of the following described land is scheduled to be officially filed in the Montana State Office, Billings, Montana, thirty (30) days from the date of this publication.

SUPPLEMENTARY INFORMATION:

Black Hills Meridian, South Dakota

T. 4 S., R. 11 E.

This plat, in 3 sheets, represents the dependent resurvey of a portion of the north boundary of the Pine Ridge Indian Reservation, a portion of the subdivisional lines, the adjusted original meanders of the left bank of the South Fork of the Cheyenne River through sections 16, 21, 28, 29, 31, and 32, and the adjusted original meanders of the right bank of the South Fork of the Cheyenne River through sections 16 and 21, and the survey of the medial line and certain partition lines of the abandoned channel of the South Fork of the Cheyenne River in sections 16 and 21, a certain division of accretion line, the new meanders of the left bank of the South Fork of the Cheyenne River through sections 28, 29, 30, 31, and 32, and a portion of section 21, and the new meanders of a portion of the right bank of the South Fork of the Cheyenne River through section 21, in Township 4 South, Range 11 East, Black Hills Meridian, South Dakota, was officially accepted June 3, 2002.

The survey was requested by the U.S. Forest Service, Nebraska National Forest, and was necessary to identify lands administered by the U.S. Forest Service.

A copy of the preceding described plat will be immediately placed in the open files and will be available to the public as a matter of information.

If a protest against this survey, as shown on this plat, is received prior to the date of the official filings, the filings will be stayed pending consideration of the protests.

This particular plat will not be officially filed until the day after all protests have been accepted or dismissed and become final or appeals from the dismissal affirmed.

FOR FURTHER INFORMATION CONTACT: Steve L. Toth, Cadastral Surveyor, Branch of Cadastral Survey, Bureau of Land Management, 5001 Southgate Drive, P.O. Box 36800, Billings, Montana 59107-6800, telephone (406) 896-5121 or (406) 896-5009.

Dated: June 11, 2002.
Thomas M. Deiling,
Chief Cadastral Surveyor, Division of Resources.

[FR Doc. 02-19183 Filed 7-29-02; 8:45 am]

BILLING CODE 4310-DN-P